DEPARTMENT OF LABOR

President's Committee on the International Labor Organization Charter Renewal

AGENCY: Bureau of International Labor Affairs, Labor.

ACTION: Notice of charter renewal.

SUMMARY: On September 29, 2023, President Biden continued the President's Committee on the International Labor Organization (ILO) for two years through September 30, 2025. In response, and pursuant to the Federal Advisory Committee Act (FACA), the Department of Labor will renew the committee's charter by November 1, 2023.

FOR FURTHER INFORMATION CONTACT: Sarah Morgan, Director, Office of International Relations, Bureau of International Labor Affairs, U.S. Department of Labor, telephone (202) 693-8647, Morgan.Sarah.A@dol.gov.

SUPPLEMENTARY INFORMATION:

Purpose: The President's Committee on the International Labor Organization was established in 1980 by Executive Order (E.O.) 12216 to monitor and assess the work of the ILO and make recommendations to the President regarding United States policy towards the ILO. The committee is chaired by the Secretary of Labor and the Department of Labor's Bureau of International Labor Affairs is responsible for providing the necessary support for the committee. The committee is composed of seven ex officio members: The Secretary of Labor, the Secretary of State, the Secretary of Commerce, the Assistant to the President for National Security Affairs, the Assistant to the President for Economic Policy, and one representative each from organized labor and the business community, designated by the Secretary of Labor. The labor and business members are the presidents of the American Federation of Labor and Congress of Industrial Organizations and the United States Council for International Business, respectively, as the most representative organizations of U.S. workers and employers engaged in ILO matters.

Authority: The authority for this notice is granted by FACA (5 U.S.C. 10) and E.O. 14109 of September 29, 2023.

Thea Mei Lee,
Deputy Undersecretary for International Affairs.

[FR Doc. 2023-23409 Filed 10-23-23; 8:45 am]

BILLING CODE 4510-28-P